DEPARTMENT OF AGRICULTURE

Natural Resources Conservation Service

[NRCS-2025-0203]

Notice of Request for New Informaiton Collection; Urban Agriculture and Innovative Production (UAIP) Grants

AGENCY: Office of Urban Agriculture and Innovative Production (OUAIP), Natural Resources Conservation Service, USDA.

ACTION: Notice; request for comment.

SUMMARY: In accordance with the Paperwork Reduction Act of 1995, this notice invites the general public and other public agencies to comment on this proposed information collection. This collection is a revision of a currently approved collection; for reporting progress on a Urban Agriculture and Innovative Production Grant.

DATES: Written comments must be received on or before March 23, 2026.

ADDRESSES: Comments may be sent by mail to: Sharonte Williams, Natural Resources Conservation Service, U.S. Department of Agriculture, 3737 Government St., Alexandria, LA 71302. Comments may also be submitted via email to the attention of Sharonte Williams to sharonte.williams@usda.gov and urbanagriculture@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Sharonte Williams at 202-981-1653 or via email to sharonte.williams@usda.gov and urbanagriculture@usda.gov.

SUPPLEMENTARY INFORMATION:

Description of Information Collection Request

Title: OFFICE OF URBAN AGRICULTURE AND INNOVATIVE PRODUCTION (OUAIP) GRANT AGREEMENT.

OMB Number: 0578-0032.

Expiration Date: 02/28/2026.

Type of Request: Revision of a currently approved collection.

Abstract: The 2018 Farm Bill authorized the FPAC mission area and NRCS to award competitive grants to local units of government, school districts, and tribal communities to support the development of urban agriculture and innovative production with the goal of improving access to local foods in areas where access to fresh, healthy food is limited or unavailable. This collection enables program staff to collect data in a unified format across projects—no new information is being collected outside of requisite grants.gov forms and one custom form for programmatic reporting (NRCS-OUAIP-1). The reporting form simply provides standardization in order to better determine program efficacy and efficiency.

This revision reflects both a decrease in the number of estimated respondents and estimated annual burden hours, as well as an increase in the estimated number of annual responses since the last OMB submission. These changes are the result of both program changes (correction of tabulation errors and recalculation of review/data entry processes) and program adjustments (reduction in new agreements and funding opportunities).

Affected Public: Private Sector—not-for-profit and farms and State, Local or Tribal Governments.

Estimated Number of Respondents: 100.

Estimated Number of Responses per Respondent: 18.

Estimated Total Annual Responses: 1,800.

Estimated Time per Response: 0.222222 hours.

Estimated Total Annual Burden on Respondents: 400 hours.

Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Aubrey Bettencourt,
Chief, Natural Resources Conservation Service.

[FR Doc. 2026-01088 Filed 1-20-26; 8:45 am]

BILLING CODE 3410-16-P